RAILROAD RETIREMENT BOARD

Agency Forms Submitted for OMB Review, Request for Comments

Summary: In accordance with the Paperwork Reduction Act of 1995 (44 U.S.C. Chapter 35), the Railroad Retirement Board (RRB) is forwarding 4 Information Collection Requests (ICR) to the Office of Information and Regulatory Affairs (OIRA), Office of Management and Budget (OMB). Our ICR describes the information we seek to collect from the public. Review and approval by OIRA ensures that we impose appropriate paperwork burdens.

The RRB invites comments on the proposed collections of information to determine (1) the practical utility of the collections; (2) the accuracy of the estimated burden of the collections; (3) ways to enhance the quality, utility, and clarity of the information that is the subject of collection; and (4) ways to minimize the burden of collections on respondents, including the use of automated collection techniques or other forms of information technology. Comments to the RRB or OIRA must contain the OMB control number of the ICR. For proper consideration of your comments, it is best if the RRB and OIRA receive them within 30 days of the publication date.

1. Title and purpose of information collection: Placement Service; OMB 3220-0057.

Section 12(i) of the Railroad Unemployment Insurance Act (RUIA), authorizes the Railroad Retirement Board (RRB) to establish, maintain, and operate free employment offices to provide claimants for unemployment benefits with job placement opportunities. Section 704(d) of the Regional Railroad Reorganization Act of 1973, as amended, and as extended by the consolidated Omnibus Budget Reconciliation Act of 1985, required the RRB to maintain and distribute a list of railroad job vacancies, by class and craft, based on information furnished by rail carriers to the RRB. Although the requirement under the law expired effective August 13, 1987, the RRB has continued to obtain this information in keeping with its employment service responsibilities under Section 12(k) of the RUIA. Application procedures for the job placement program are prescribed in 20 CFR part 325. The procedures pertaining to the RRB's obtaining and distributing job vacancy reports furnished by rail carriers are described in 20 CFR 346.1.

The RRB currently utilizes four forms to obtain information needed to carry out its job placement responsibilities. Form ES-2, Supplemental Information for Central Register, is used by the RRB to obtain information needed to update a computerized central register of separated and furloughed railroad employees available for employment in the railroad industry. Form ES-21, Referral to State Employment Service, and ES-21c, Report of State Employment Service Office, are used by the RRB to provide placement assistance for unemployed railroad employees through arrangements with State Employment Service offices. Form UI-35, Field Office Record of Claimant Interview, is used primarily by RRB field office staff to conduct in-person interviews of claimants for unemployment benefits. Completion of these forms is required to obtain or maintain a benefit. In addition, the RRB also collects Railroad Job Vacancies information received voluntarily from railroad employers.

Previous Requests for Comments: The RRB has already published the initial 60-day notice (78 FR 66786 on November 6, 2013) required by 44 U.S.C. 3506(c)(2). That request elicited no comments.

Information Collection Request (ICR)

Title: Placement Service.

OMB Control Number: 3220-0057.

Form(s) submitted: ES-2, ES-21, ES-21c, UI-35 and Job Vacancies Report.

Type of request: Extension without change of a currently approved collection.

Affected public: Private Sector; Businesses or other for-profits.

Abstract: Under the RUIA, the Railroad Retirement Board provides job placement assistance for unemployed railroad workers. The collection obtains information from job applicants, railroad employers, and State Employment Service offices for use in placement, for providing referrals for job openings, reports of referral results and for verifying and monitoring claimant eligibility.

Changes proposed: The RRB proposes no revisions to the forms in the collection.

The Burden Estimate for the ICR is as Follows:

Form No. | Annual responses | Time (minutes) | Burden (hours)
ES-2 | 7,500 | 0.25 | 31
ES-21 | 3,500 | 0.68 | 40
ES-21c | 1,250 | 1.50 | 31
UI-35 (in-person) | 9,000 | 7.00 | 1,050
UI-35 (by mail) | 1,000 | 10.50 | 175
Railroad Job Vacancies Report | 750 | 10.00 | 125
TOTAL | 23,000 |  | 1,452

2. Title and Purpose of information collection: Withholding Certificate for Railroad Retirement Monthly Annuity Payments; OMB 3220-0149.

The Internal Revenue Code requires that all payers of tax liable private pensions to U.S. citizens or residents: (1) Notify each recipient at least concurrent with initial withholding that the payer is, in fact, withholding benefits for tax liability and that the recipient has the option of electing not to have the payer withhold, or to withhold at a specific rate; (2) withhold benefits for tax purposes (in the absence of the recipient's election not to withhold benefits); and (3) notify all beneficiaries, at least annually, that they have the option to change their withholding status or elect not to have benefits withheld.

The RRB provides Form RRB-W4P, Withholding Certificate for Railroad Retirement Payments, to its annuitants to exercise their withholding options. Completion of the form is required to obtain or retain a benefit. One response is requested of each respondent.

Previous Requests for Comments: The RRB has already published the initial 60-day notice (78 FR 66787 on November 6, 2013) required by 44 U.S.C. 3506(c)(2). That request elicited no comments.

Information Collection Request (ICR)

Title: Withholding Certificate for Railroad Retirement Monthly Annuity Payments.

OMB Control Number: 3220-0149.

Form(s) submitted: RRB W-4P.

Type of request: Extension without change of a currently approved collection.

Affected public: Individuals or Households.

Abstract: Under Public Law 98-76, railroad retirement beneficiaries' Tier II, dual vested and supplemental benefits are subject to income tax under private pension rules. Under Public Law 99-514, the non-social security equivalent benefit portion of Tier I is also taxable under private pension rules. The collection obtains the information needed by the Railroad Retirement Board to implement the income tax withholding provisions.

Changes proposed: The RRB proposes no changes to Form RRB W-4P.

The burden estimate for the ICR is as follows:

Estimated annual number of respondents: 25,000.

Total annual responses: 25,000.

Total annual reporting hours: 1.

3. Title and Purpose of information collection: Investigation of Claim for Possible Days of Employment; OMB 3220-0196.

Under Section 1(k) of the Railroad Unemployment Insurance Act (RUIA), unemployment and sickness benefits are not payable for any day remuneration is payable or accrues to the claimant. Also Section 4(a-1) of the RUIA provides that unemployment or sickness benefits are not payable for any day the claimant receives the same benefits under any law other than the RUIA. Under the Railroad Retirement Board (RRB) regulation 20 CFR 322.4(a), a claimant's certification or statement on an RRB-provided claim form that he or she did not work on any day claimed and did not receive income such as vacation pay or pay for time lost for any day claimed is sufficient evidence unless there is conflicting evidence. Further, under 20 CFR 322.4(b), when there is a question raised as to whether or not remuneration is payable or has accrued to a claimant with respect to a claimed day or days, investigation shall be made with a view to obtaining information sufficient for a finding.

Form ID-5S (SUP), Report of Cases for Which All Days Were Claimed During a Month Credited Per an Adjustment Report, collects information about compensation credited to an employee during a period when the employee claimed either unemployment or sickness benefits from a railroad employer. The request is generated as a result of a computer match that compares data which is maintained in the RRB's RUIA Benefit Payment file with data maintained in the RRB's records of service. The ID-5S (SUP) is generated annually when the computer match indicates that an employee of the railroad employer was paid unemployment or sickness benefits for every day in one or more months for which creditable compensation was adjusted at the request of their railroad employer on RRB Form BA-4 (OMB Approved 3220-0008).

The computer-generated Form ID-5S (SUP) includes pertinent identifying information, the BA-4 adjustment process date, and the claimed months in question. Space is provided on the report for the employer's use in supplying the information requested in the computer-generated transmittal letter, Form ID-5S, Railroad Compensation Adjustment Discrepancy Report, which accompanies the report. Completion is voluntary. One response is requested of each respondent.

Previous Requests for Comments: The RRB has already published the initial 60-day notice (78 FR 66787 on November 6, 2013) required by 44 U.S.C. 3506(c)(2). That request elicited no comments.

Information Collection Request (ICR)

Title: Investigation of Claim for Possible Days of Employment.

OMB Control Number: 3220-0196.

Form(s) submitted: ID-5S (SUP).

Type of request: Extension without change of a currently approved collection.

Affected public: Private Sector; Businesses or other for profits

Abstract: Under the Railroad Unemployment Insurance Act, unemployment or sickness benefits are not payable for any day in which remuneration is payable or accrues to the claimant. The collection obtains information about compensation credited to an employee during a period when the employee claimed unemployment or sickness benefits from their railroad employer.

Changes proposed: The RRB proposes no revisions to Form ID-5S (SUP).

The burden estimate for the ICR is as follows:

Form number | Annual responses | Time (minutes) | Burden (hours)
ID-5S (SUP) | 55 | 10 | 9

4. Title and Purpose of information collection: Designation of Contact Officials; 3220-0200.

Coordination between railroad employers and the RRB is essential to properly administer the payment of benefits under the Railroad Retirement Act (RRA) and the Railroad Unemployment Insurance Act (RUIA). In order to enhance timely coordination activity, the RRB utilizes Form G-117A, Designation of Contact Officials. Form G-117A is used by railroad employers to designate employees who are to act as point of contact with the RRB on a variety of RRA and RUIA-related matters. Completion is voluntary. One response is requested from each respondent.

Previous Requests for Comments: The RRB has already published the initial 60-day notice (78 FR 66787 on November 6, 2013) required by 44 U.S.C. 3506(c)(2). That request elicited no comments.

Information Collection Request (ICR)

Title: Designation of Contact Officials.

OMB Control Number: 3220-0200.

Form(s) submitted: G-117A.

Type of request: Extension without change of a currently approved collection.

Affected public: Private Sector; Businesses or other for profits.

Abstract: The Railroad Retirement Board (RRB) requests that railroad employers designate employees to act as liaison with the RRB on a variety of Railroad Retirement Act and Railroad Unemployment Insurance Act matters.

Changes proposed: The RRB proposes no revisions to Form G-117A.

The burden estimate for the ICR is as follows:

Form number | Annual responses | Time (minutes) | Burden (hours)
G-117A | 100 | 15 | 25

Additional Information or Comments: Copies of the forms and supporting documents can be obtained from Dana Hickman at (312) 751-4981 or Dana.Hickman@RRB.GOV.

Comments regarding the information collection should be addressed to Charles Mierzwa, Railroad Retirement Board, 844 North Rush Street, Chicago, Illinois, 60611-2092 or Charles.Mierzwa@RRB.GOV and to the OMB Desk Officer for the RRB, Fax: 202-395-6974, Email address: OIRA_Submission@omb.eop.gov.

Charles Mierzwa,
Chief of Information Resources Management.

[FR Doc. 2014-02558 Filed 2-5-14; 8:45 am]

BILLING CODE 7905-01-P